DEPARTMENT OF ENERGY

Orders Granting Authority To Import and Export Natural Gas, To Import and Export Liquefied Natural Gas, Amending Authority, Vacating Authority, Request for Rehearing and Motion for Leave To Answer, and Errata During January 2017

| FE Docket No.
Engie Gas & LNG LLC (formerly GDF Suez Gas NA LLC) | 95-100-LNG 09-135-LNG 15-69-LNG
Small Ventures U.S.A., L.L.C | 01-54-LNG
Gasfin Development USA, LLC | 13-06-LNG
SV Global LNG Trading Company, LLC | 15-85-LNG
Blue Roads Solutions, LLC | 16-173-NG
J.D. Irving Limited | 16-182-NG
Sabine Pass Liquefaction, LLC | 16-197-LNG
Active Energy INC | 16-178-NG
Altagas LTD | 16-192-NG
Royal Bank of Canada | 16-194-NG
Gas Natural Puerto Rico, INC | 16-196-LNG
Techgen S.A. DE C.V | 16-195-NG
Alaska Pipeline Company | 16-190-NG
Hartree Partners, LP | 16-198-NG
Puget Sound Energy, INC | 16-187-LNG
Advance Energy LNG | 16-193-NG
Dominion Cove Point LNG, LP | 16-191-LNG
Plum Energy LLC | 16-201-LNG
Fortisbc Energy INC | 16-200-NG
Gas Natural Aprovisionamientos SDG, S.A | 16-199-LNG
Total Gas & Power North America, INC | 16-204-NG
Sequent Energy Canada Corp | 16-203-NG
Enhanced Energy Services of America, LLC | 16-202-NG
The Brooklyn Union Gas Company d/b/a National Grid NY | 16-153-NG
Magnolia LNG, LLC | 13-132-LNG

AGENCY: Office of Fossil Energy, Department of Energy.

ACTION: Notice of orders.

SUMMARY: The Office of Fossil Energy (FE) of the Department of Energy gives notice that during January 2017, it issued orders granting authority to import and export natural gas, to import and export liquefied natural gas (LNG), amending authority, vacating authority, Request for Rehearing and Motion for Leave to Answer, and Errata. These orders are summarized in the attached appendix and may be found on the FE Web site at http://energy.gov/fe/listing-doefe-authorizationsorders-issued-2017.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on February 23, 2017.
John A. Anderson,
Director, Office of Regulation and International Engagement, Office of Oil and Natural Gas.

APPENDIX

DOE/FE Orders Granting Import/Export Authorizations
1115-B; 2752-A; 3647-A | 01/17/17 | 95-100-LNG; 09-135-LNG; 15-69-LNG | Engie Gas & LNG LLC (formerly GDF SUEZ Gas NA LLC) | Orders 1115-B, 2752-A and 3647-A amending authorities to import LNG to reflect name change.
1718-A | 01/17/17 | 01-54-LNG | Small Ventures U.S.A., L.L.C | Order 1718-A vacating blanket authority to import natural gas from Canada.
3253-A | 01/05/17 | 13-06-LNG | Gasfin Development USA, LLC | Order 3253-A vacating Long-term, Multi-contract authority to export LNG by vessel to Free Trade Agreement Nations.
3666-A | 01/17/17 | 15-85-LNG | SV Global LNG Trading Company, LLC | Order 3666-A vacating blanket authority to import LNG from various international sources by vessel.
3942 | 01/17/17 | 16-173-NG | Blue Roads Solutions, LLC | Order 3942 granting blanket authority to export LNG to import/export LNG from/to Canada/Mexico by truck.
3959 | 01/04/17 | 16-182-NG | J.D. Irving Limited | Order 3959 granting blanket authority to import/export natural gas from/to Canada.
3960 | 01/04/17 | 16-197-LNG | Sabine Pass Liquefaction, LLC | Order 3960 granting blanket authority to import LNG from various international sources by vessel.
3961 | 01/04/17 | 16-178-NG | Active Energy Inc | Order 3961 granting blanket authority to export natural gas to Canada.
3962 | 01/04/17 | 16-192-NG | AltaGas Ltd | Order 3962 granting blanket authority to import/export natural gas from/to Canada.
3963 | 01/04/17 | 16-194-NG | Royal Bank of Canada | Order 3963 granting blanket authority to import/export natural gas from/to Canada.
3964 | 01/04/17 | 16-196-LNG | Gas Natural Puerto Rico, Inc | Order 3964 granting blanket authority to import LNG from various international sources by vessel.
3965 | 01/04/17 | 16-195-NG | Techgen S.A. de C.V | Order 3965 granting blanket authority to export natural gas to Mexico.
3966 | 01/04/17 | 16-190-NG | Alaska Pipeline Company | Order 3966 granting blanket authority to import natural gas from Canada.
3967 | 01/04/17 | 16-198-NG | Hartree Partners, LP | Order 3967 granting blanket authority to import/export natural gas from/to Canada.
3969 | 01/17/17 | 16-187-LNG | Puget Sound Energy, Inc | Order 3969 granting blanket authority import LNG from Canada by truck.
3970 | 01/17/17 | 16-193-NG | Advance Energy LNG | Order 3970 granting blanket authority to import/export natural gas from/to Canada/Mexico, and to import LNG from various international sources by vessel.
3971 | 01/17/17 | 16-191-LNG | Dominion Cove Point LNG, LP | Order 3971 granting blanket authority to import LNG from various international sources by vessel.
3972 | 01/17/17 | 16-201-LNG | Plum Energy LLC | Order 3972 granting blanket authority to import LNG from Canada by truck and export LNG to Canada/Mexico by truck.
3973 | 01/17/17 | 16-200-NG | FortisBC Energy, Inc | Order 3973 granting blanket authority to import LNG from various international sources by vessel.
3974 | 01/17/17 | 16-199-LNG | Gas Natural Aprovisionamientos SDG, S.A. | Order 3932 granting blanket authority to import/export natural gas from/to Canada.
3975 | 01/17/17 | 16-204-NG | Total Gas & Power North America, Inc | Order 3975 granting blanket authority to import/export natural gas from/to Canada/Mexico, and to import LNG from various international sources by vessel.
3976 | 01/17/17 | 16-203-NG | Sequent Energy Canada Corp | Order 3976 granting blanket authority to import/export natural gas from/to Canada.
3977 | 01/17/17 | 16-202-NG | Enhanced Energy Services of America, LLC | Order 3977 granting blanket authority to import natural gas to Canada.
Errata | 01/04/17 | 16-153-NG | The Brooklyn Union Gas Company d/b/a National Grid NY | Order 3932 Errata Notice.
Tolling Order | 01/27/17 | 13-132-LNG | Magnolia LNG, LLC | Order granting Request for Rehearing and Motion for Leave to Answer for the purpose of further consideration.

[FR Doc. 2017-06544 Filed 3-31-17; 8:45 am]

BILLING CODE 6450-01-P